DEPARTMENT OF THE INTERIOR

Office of the Secretary

43 CFR Part 10

RIN 1024-AC84

Native American Graves Protection and Repatriation Act Regulations; Correction

AGENCY: Department of the Interior.

ACTION: Correcting amendment.

SUMMARY: This document contains corrections to a final rule that was published Friday, September 30, 2005 (70 FR 57177). The regulations related to implementation of the Native American Graves Protection and Repatriation Act of 1990.

DATES: Effective Date: September 30, 2005.

FOR FURTHER INFORMATION CONTACT: Dr. Sherry Hutt, Manager, National NAGPRA Program, National Park Service, 1849 C Street, NW., (2253), Washington, DC 20240, telephone (202) 354-1479, facsimile (202) 371-5197, e-mail: Sherry_Hutt@nps.gov.

SUPPLEMENTARY INFORMATION: This rule is published by the authority of the Secretary, granted under 25 U.S.C. 3001 et seq.

Background

On November 16, 1990, President George H.W. Bush signed the Native American Graves Protection and Repatriation Act of 1990 (the Act) into law. The Act addresses the rights of lineal descendants, Indian tribes, and Native Hawaiian organizations to Native American human remains, funerary objects, sacred objects, and objects of cultural patrimony with which they are affiliated. The Act assigns implementation responsibilities to the Secretary of the Interior.

Need for Correction

As published, the final rule mistakenly cited the affected subpart as Subpart D of Part 10. The correct reference should have been Subpart B and C of Part 10.

List of Subjects in 43 CFR Part 10

Historic preservation, Indians-lands.

For the reasons stated in the preamble, the Department of the Interior amends part 10 of title 43, Code of Federal Regulations, as follows:

PART 10—NATIVE AMERICAN GRAVES PROTECTION AND REPATRIATION ACT REGULATIONS

1. The authority citation for part 10 continues to read as follows:

Authority: 25 U.S.C. 3001 et seq.

§ 10.2 [Corrected]

2. In § 10.2 (c)(3), remove the phrase “(MS 2253 MIB)” and replace with the phrase “(2253).”

3. In Subparts B and C, remove the words “Departmental Consulting Archeologist” wherever they appear and add in their place the words “Manager, National NAGPRA Program.”

Julie MacDonald,
Acting Assistant Secretary for Fish and Wildlife and Parks.

[FR Doc. 06-3147 Filed 3-31-06; 8:45 am]

BILLING CODE 4312-50-P